Title 3—

The President

Memorandum of June 29, 2017

Delegation of Authority Under the Department of State Authorities Act, Fiscal Year 2017

Memorandum for the Secretary of Homeland Security

By the authority vested in me as President by the Constitution and the laws of the United States of America, I hereby delegate to the Secretary of Homeland Security the authority to submit the report required under section 710 of the Department of State Authorities Act, Fiscal Year 2017 (Public Law 114-323) (the “Act”).

The delegation in this memorandum shall apply to any provision of any future public law that is the same or substantially the same as section 710 of the Act.

You are authorized and directed to publish this memorandum in the Federal Register.

THE WHITE HOUSE,

Washington, June 29, 2017

[FR Doc. 2017-14252

Filed 7-3-17; 11:15 am]

Billing code 4410-10-P